DEPARTMENT OF EDUCATION

[CFDA No.: 84.004D]

Desegregation of Public Education-Equity Assistance Center (EAC) Program Notice Inviting Applications for New Awards for Fiscal Year (FY) 2002

Purpose of Program: To award grants (cooperative agreements) to operate regional equity assistance centers to provide technical assistance and training, at the request of school boards and other responsible governmental agencies, on issues related to equity in education to ensure that all children, regardless of race, gender, or national origin, have equal access to quality education and the opportunity to develop high academic skills in reading, math, and other core subject areas.

Eligible Applicants: A public agency (other than a State educational agency or a school board) or private, non-profit organization.

Deadline Date for Transmittal of Applications: December 31, 2001.

Deadline Date for Intergovernmental Review: March 1, 2002.

Applications Available: November 16, 2001.

Available Funds: $7,344,000.

Estimated Range of Awards: $300,000 to $1,000,000 per year.

Estimated Average Size of Awards: $730,000.

Estimated Number of Awards: 10.

Note: The Department is not bound by any estimates in this notice.

Project Period: Up to 36 months.

Applicable Regulations: (a) The Education Department General Administrative Regulations (EDGAR) in 34 CFR parts 74, 75, 77, 79, 80, 81, 82, 85 and 86; except that 34 CFR 75.232 does not apply to grants under 34 CFR parts 272; and (b) the regulations for this program in 34 CFR parts 270 and 272.

Priorities

Invitational Priorities: While applicants may propose any project within the scope of 34 CFR 272.10, the Equity (Desegregation) Assistance Center Program regulations, pursuant to 34 CFR 75.105 (c)(1) the Secretary is particularly interested in applications that meet one or more of the following invitational priorities related to the overall goal of higher academic achievement for all students. However, an application that meets one or more of the invitational priorities does not receive competitive or absolute preference over the other applications.

Invitational Priority 1—Projects that will give priority to assisting public school districts to maintain or advance the desegregation of their schools in a manner that will result in higher achievement in reading, mathematics, and other core subjects.

Invitational Priority 2—Projects that will give priority to assisting public school districts to promote equity in education by ensuring access to qualified teachers, quality instruction, and challenging curricula, in order to help students meet high standards of achievement.

Invitational Priority 3—Projects that will use effective methods to assess the impact of the program on schools, and particularly on student achievement.

Invitational Priority 4—Projects that will give priority to supporting public school choice by assisting public school districts, public charter schools and public chartering agencies to identify, design and implement sound policies and practices related to student recruitment, admissions, and selection that provide all students with equitable access to magnet schools, charter schools, and other public school options.

For Applications or Information Contact: Sandra H. Brown, U. S. Department of Education, 400 Maryland Avenue, SW., Room 3C122, Washington, DC 20202-6140. Telephone (202) 260-2638. If you use a telecommunications device for the deaf (TDD), you may call the Federal Information Relay Service (FIRS) at 1-800-877-8339.

Individuals with disabilities may obtain this document in an alternative format (e.g., Braille, large print, audiotape, or computer diskette) on request from the contact person listed in the preceding paragraph.

Individuals with disabilities may obtain a copy of the application package in an alternative format, also, by contacting that person. However, the Department is not able to reproduce in an alternative format the standard forms included in the application package.

Electronic Access to This Document

You may view this document, as well as all other Department of Education documents published in the Federal Register in text or Adobe Portable Document Format (PDF) on the Internet at the following site: www.ed.gov/legislation/FedRegister.

To use PDF, you must have Adobe Acrobat Reader, which is available free at this site. If you have any questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.access.gpo/nara/index.html.

Program Authority: 42 U.S.C. 2000c-2000c-2, 2000c-5.

Dated: November 14, 2001.
Susan B. Neuman,
Assistant Secretary for Elementary and Secondary Education.

[FR Doc. 01-28875 Filed 11-16-01; 8:45 am]

BILLING CODE 4000-01-P